DEPARTMENT OF AGRICULTURE

Rural Housing Service

Notice of Funds Availability (NOFA) Inviting Applications for the Rural Community Development Initiative (RCDI); Correction

AGENCY: Rural Housing Service, USDA.

ACTION: Correction.

SUMMARY: The Rural Housing Service (RHS) corrects a notice published March 17, 2000 (65 FR 14525). This action is taken to correct the definition of “low-income community”.

Accordingly, the notice published March 17, 2000 (65 FR 14525), is corrected as follows:

On page 14525 in the third column under “Definitions for RCDI Purposes”, the definition for “Low-income community” should read “Low-income community—a city, town, village, county, parish, borough, or federally recognized Indian tribe with a median household income at, or below, 80 percent of the statewide median household income.”

Dated: April 26, 2000.
Inga Smulkstys,
Acting Under Secretary, Rural Development.

[FR Doc. 00-11053 Filed 5-2-00; 8:45 am]

BILLING CODE 3410-XV-P